DEPARTMENT OF TRANSPORTATION

Federal Highway Administration

Environmental Impact Statement for the Proposed Kelly Parkway; Bexar County, TX

AGENCY: Federal Highway Administration (FHWA), DOT.

ACTION: Notice of intent.

SUMMARY: The FHWA is issuing this notice to advise the public that an environmental impact statement will be prepared for the proposed Kelly Parkway highway project in Bexar County, Texas.

FOR FURTHER INFORMATION CONTACT: Walter Waidelich, Federal Highway Administration, 300 East 8th Street, Room 826, Austin, Texas 78701, (512) 916-5988; John Kelly, District Engineer, San Antonio District, Texas Department of Transportation, P.O. Box 29928, San Antonio, Texas 78284, (210) 615-1110.

SUPPLEMENTARY INFORMATION: The FHWA, in cooperation with the Texas Department of Transportation, will prepare an environmental impact statement (EIS) on a proposed highway project in Bexar County, Texas. The proposed action is to construct the “Kelly Parkway” in and near southwest San Antonio, Texas. The purpose of and need for the proposed facility is to accommodate access and mobility needs related to traffic growth in the southwest San Antonio area and the redevelopment of the former Kelly Air Force Base (currently Kelly USA) and nearby areas. The proposed project will either be reconstructing an existing facility or building a new-location facility designed to be a direct link from Kelly USA and the Union Pacific South San Antonio Intermodal Rail Terminal to IH 35, IH 410, US 90 and State Highway 16.

The proposed Kelly Parkway termini are at US 90, between General Hudnell Drive on the west and the Union Pacific Railroad on the east, and SH 16, south of the San Antonio City limits. The length of the proposed project is approximately 8.8 miles. These boundaries form the northern and southern limits of the corridor for the EIS and are termed the “Kelly Parkway Corridor Study Area.” The proposed Kelly Parkway Corridor Study Area limits begin along US 90 between the General McMullen drive interchange and Loop 353 (Nogalitos Street), and extends southeasterly to SH 16 south of the San Antonio city limits.

A full range of modal alternatives were examined for the proposed Kelly Parkway during the development of Mobility 2025, the San Antonio Metropolitan Transportation Plan (MTP). The proposed Kelly Parkway is included in this region's long range plan (MTP) as a highway facility in combination with transit accommodations to serve Kelly USA. As such, the range of alternatives for the proposed facility within the limits described above include: various alignments for a new-location facility, improvements to existing facilities, combinations of existing facility improvements and a new-location facility, and a no-build option. The number of lanes and roadway configuration will be determined as a part of the study.

A scoping meeting is planned and will be announced at a later date, followed by a series of public meetings. A local public involvement office will be established. Letters describing the proposed action and soliciting comments will be sent to appropriate Federal, State, and local agencies having special interest or expertise, as well as private organizations and citizens who have previously expressed or are known to have interest in the proposed project. A public hearing will be held. The draft EIS will be available for public and agency review and comment prior to the public hearing. Public notice will be given of the time and place for the meetings and hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)
Brett M. Jackson,
Urban Programs Engineer, Austin, Texas.

[FR Doc. 00-14651 Filed 6-8-00; 8:45 am]

BILLING CODE 4910-22-M